DEPARTMENT OF HOUSING AND URBAN DEVELOPMENT

[Docket No. FR-4907-N-24]

Notice of Proposed Information Collection: Comment Request; Owner's Certification of Compliance with HUD Tenant Eligibility and Rent Procedures

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: October 12, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Lanier M. Hylton, Director, Officer of Housing Assistance Contract Administration Oversight, Department of Housing and Urban Development, 4561 7th Street, SW., Washington, DC 20410, telephone (202) 708-2866 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Owner's Certification of Compliance with HUD Tenant Eligibility and Rent Procedures.

OMB Control Number, if applicable: 2502-0204.

Description of the need for the information and proposed use: These data elements are needed to comply with Federal statutes and regulations that: (1) Establish policies to who may be admitted to subsidized housing; (2) specify which eligible applicants may be given priority over others; (3) prohibit discrimination in conjunction with selection of tenants and unit (4) specify how tenants' incomes and rents must be compiled; and (5) require Annual Reports to Congress and the public on the race/ethnicity and gender composition of HUD program beneficiaries.

Agency form numbers, if applicable: Automated printouts 27061, 9887, 9887-A.

Estimation of the total numbers of hours needed to prepare the information collection including number of respondents, frequency of response, and hours of response: The estimated number of burden hours needed to prepare the information collection is 2,108,052 the number of respondents is 2,210,139 generating approximately 2,210,139 annual responses; the frequency of response is on occasion; and the estimated time needed to prepare the response 0.9 hours.

Status of the proposed information collection: Extension of a currently approved collection

Authority: The Paperwork Reduction Act of 1995, 44 U.S.C., Chapter 35, as amended.

Dated: July 30, 2004.
Sean G. Cassidy,
General Deputy Assistant Secretary for Housing Deputy Federal Housing Commissioner.

[FR Doc. 04-18369 Filed 8-10-04; 8:45 am]

BILLING CODE 4210-27-M